DEPARTMENT OF COMMERCE

National Oceanic and Atmospheric Administration

RIN: 0648-XN97

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings, in Anchorage, AK.

DATES: The meetings will be held March 30, 2009 through April 7, 2009. See SUPPLEMENTARY INFORMATION for specific dates and times. All meetings are open to the public, except executive sessions.

ADDRESSES: The meetings will be held at the Anchorage Hilton Hotel, 500 W 3rd Avenue, Anchorage, AK.

Council address: North Pacific Fishery Management Council, 605 W. 4th Avenue, Suite 306, Anchorage, AK 99501-2252.

FOR FURTHER INFORMATION CONTACT: David Witherell, Council staff, Phone: 907-271-2809.

SUPPLEMENTARY INFORMATION: The Council will begin its plenary session at 8 a.m. on Wednesday April 1 continuing through Tuesday April 7, 2009. The Council's Advisory Panel (AP) will begin at 8 a.m., Monday, March 30 and continue through Saturday April 4. The Scientific and Statistical Committee (SSC) will begin at 8 a.m. on Monday, March 30 and continue through Wednesday April 1, 2009. The Enforcement Committee will meet Tuesday, March 31, from 9 a.m. to 12 p.m. in the Illiamna Room.

Council Plenary Session: The agenda for the Council's plenary session will include the following issues. The Council may take appropriate action on any of the issues identified.

1. Reports

Executive Director's Report (including review of Statement of Organization, Practices and Procedures (SOPPs))

NMFS Management Report

Alaska Department of Fish & Game Report

U.S. Coast Guard Report

U.S. Fish & Wildlife Service Report

Protected Species Report (Including update on Steller Sea Lion Biological Opinion)

2. Gulf of Alaska (GOA) Groundfish Management: Final action on GOA Fixed Gear Recency.

3. Salmon Bycatch: Final action on Bering Sea Chinook Salmon Bycatch Environmental Impact Statement (EIS).

4. Groundfish Issues: Review discussion paper on proposed Bristol Bay Trawl Closure and Walrus issues, and receive Council direction; Review discussion paper on GOA Tanner and Chinook Bycatch and receive Council direction.

5. Amendment 80 Cooperatives: Review annual report from cooperative; Final action on Amendment 80 Cooperative Formation criteria.

6. Marine Protection Act Nomination Process: Review NMFS letter and discuss next steps. (T)

7. Other Groundfish Issues: Review and approve halibut sorting Exempted Fishery Permit (T); Review Habitat Area of Particular Concern (HAPC) evaluation criteria and Essential Fish Habitat (EFH) 5-year review methodology (SSC Only).

8. Scallop Issues: Receive Plan Team Report and review and approve Stock Assessment Fishery Evaluation (SAFE) Report.

9. Staff Tasking: Review Committees and tasking.

10. Other Business

The SSC agenda will include the following issues:

1, Salmon Bycatch

2. Halibut Sorting EFP

3. HAPC evaluation criteria and EFH 5 year review methodology

4. Scallop Issues

The Advisory Panel will address most of the same agenda issues as the Council, except for #1 reports. The Agenda is subject to change, and the latest version will be posted at http://www.fakr.noaa.gov/npfmc/.

Although non-emergency issues not contained in this agenda may come before these groups for discussion, in accordance with the Magnuson-Stevens Fishery Conservation and Management Act (Magnuson-Stevens Act), those issues may not be the subject of formal action during these meetings. Actions will be restricted to those issues specifically identified in this notice and any issues arising after publication of this notice that require emergency action under Section 305 (c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: March 5, 2009.
Tracey L. Thompson,
Acting Director, Office of Sustainable Fisheries, National Marine Fisheries Service.

[FR Doc. E9-5085 Filed 3-10-09; 8:45 am]

BILLING CODE 3510-22-S